DEPARTMENT OF TRANSPORTATION

Federal Aviation Administration

FAA Approval of Noise Compatibility Program 14 CFR Part 150, Santa Barbara Airport, Santa Barbara, CA

AGENCY: Federal Aviation Administration, DOT.

ACTION: Notice.

SUMMARY: The Federal Aviation Administration (FAA) announces its findings on the noise compatibility program submitted by Santa Barbara Airport under the provisions of 49 U.S.C. (the Aviation Safety and Noise Abatement Act, hereinafter referred to as “the Act”) and 14 CFR part 150. These findings are made in recognition of the description of Federal and nonfederal responsibilities in Senate Report No. 96-52 (1980). On June 28, 2004, the FAA determined that the noise exposure maps submitted by Santa Barbara Airport under Part 150 were in compliance with applicable requirements. On January 27, 2006, the FAA approved the Santa Barbara Airport noise compatibility program. Some of the recommendations of the program were approved.

DATES: Effective Date: The effective date of the FAA's approval of the Santa Barbara Airport noise compatibility program for Santa Barbara Airport is January 27, 2006.

FOR FURTHER INFORMATION CONTACT: Jennifer Mendelsohn, Environmental Protection Specialist, AWP-621.6, Southern California Standards Section, Federal Aviation Administration, Western-Pacific Region, 15000 Aviation Boulevard, Hawthorne, California 90261, Telephone: 310/725-3637. Documents reflecting this FAA action may be reviewed at this same location.

SUPPLEMENTARY INFORMATION: This notice announces that the FAA has given its overall approval to the noise compatibility program for Santa Barbara Airport, effective January 27, 2006. Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA regional office in Hawthorne, California.

The Santa Barbara Airport submitted to the FAA on April 8, 2004, the noise exposure maps, descriptions, and other documentation produced during the noise compatibility planning study conducted from March 2004 through January 2005. The Santa Barbara Airport noise exposure maps were determined by FAA to be in compliance with applicable requirements on June 28, 2004. Notice of this determination was published in the Federal Register on July 2, 2004 (69 FR 40452).

The Santa Barbara Airport study contains a proposed noise compatibility program comprised of actions designed for phased implementation by airport management and adjacent jurisdictions from January 2005 to (or beyond) the year 2008. It was requested that the FAA evaluate and approve this material as a noise compatibility program as described in section 47504 of the Act. The FAA began its review of the program on August 3, 2005 and was required by a provision of the Act to approve or disapprove the program within 180 days (other than the use of new or modified flight procedures for noise control). Failure to approve or disapprove such program within the 180-day period shall be deemed to be an approval of such program.

The submitted program contained twenty (20) proposed actions for noise mitigation on and off the airport. The FAA completed its review and determined that the procedural and substantive requirements of the Act and FAR Part 150 have been satisfied. The overall program, therefore, was approved by the FAA effective January 27, 2006.

Outright approval was granted for one Noise Abatement element, ten Land Use Management elements and all four Program Management elements. Three Noise Abatement elements were disapproved and one element required no federal action. One Land Use Management element was disapproved in part pending submission of additional information. The approved measures included such items as: Promote use of Aircraft Owners and Pilots Association Noise Awareness Steps by light single and twin-engine aircraft; Encourage Santa Barbara County to enact the noise overlay zoning recommendations contained within County's general plan; Encourage the City of Goleta to incorporate land use regulations or restrictions within the Airport Influence Area; Encourage the Santa Barbara County Association of Governments to revise the Airport Land Use Plan; City of Santa Barbara should adopt project review guidelines to specify noise compatibility criteria for development within the Airport Influence Area; Maintain the current compatible land use zoning within the 2008 65 Community Noise Equivalent Level (CNEL) noise contour; City of Santa Barbara should enact overlay zoning to provide noise compatibility use standards within the Airport Influence Area; Encourage the City of Goleta and Santa Barbara County to require noise and avigation easements as a condition of subdivision approval for those areas contained within Zones One, Two and Three of the proposed zoning ordinance; City of Santa Barbara should amend its current building codes to incorporate prescriptive noise standards and encourage the City of Goleta and Santa Barbara County to incorporate similar building code amendments; Consideration should be given to establishing a voluntary acquisition program for dwellings located within the 65 to 75 CNEL; Consideration should be given to voluntary acquisition of the residential development rights for portions of two large parcels located east of the airport; Continue noise abatement information program; Update and expand noise and flight track monitoring system; Monitor implementation of the updated Part 150 Noise Compatibility Program and Update Noise Exposure Maps and Noise Compatibility Program, as necessary, at minimum every seven to ten years to respond to the changing conditions in the local area and the aviation industry.

These determinations are set forth in detail in the Record of Approval signed by the Associate Administrator for Airports on January 27, 2006. The Record of Approval, as well as other evaluation materials and the documents comprising the submittal, are available for review at the FAA office listed above and at the administrative offices of the Santa Barbara Airport. The Record of Approval also will be available on-line at: http://www.faa.gov/airports_airtraffic/airports/environmental/airport_noise/.

Issued in Hawthorne, California on March 8, 2006.
Mark A. McClardy,
Manager, Airports Division, Western—Pacific Region, AWP-600.

[FR Doc. 06-2666 Filed 3-20-06; 8:45 am]

BILLING CODE 4910-13-M